FEDERAL COMMUNICATIONS COMMISSION

[CC Docket No. 92-237; DA 07-4080]

GSA Approves Renewal of North American Numbering Council Charter Through September 27, 2009

AGENCY: Federal Communications Commission.

ACTION: Notice.

SUMMARY: On October 2, 2007, the Commission released a public notice announcing GSA approves renewal of North American Numbering Council charter through September 27, 2009. The intended effect of this action is to make the public aware of the renewal of the North American Numbering Council charter.

DATES: Renewed through September 27, 2009.

ADDRESSES: Competition Policy Division, Wireline Competition Bureau, Federal Communications Commission, The Portals II, 445 12th Street, SW., Suite 5-C162, Washington, DC 20554.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released October 2, 2007.

The GSA has renewed the charter of the North American Numbering Council (Council) through September 27, 2009. The Council will continue to advise the Federal Communications Commission (Commission) on rapidly evolving and competitively significant numbering issues facing the telecommunications industry.

In October 1995, the Commission established the North American Numbering Council, a federal advisory committee created pursuant to the Federal Advisory Committee Act, 5 U.S.C., App. 2 (1988), to advise the Commission on issues related to North American Numbering Plan (NANP) administration in the United States, including local number portability administration issues. The original charter of the Council was effective on October 5, 1995, establishing an initial two-year term. Amended charters were filed on October 5, 1997, October 5, 1999, October 5, 2001, October 5, 2003, and September 26, 2005 each renewing the term of the charter for an additional two years.

Since the last charter renewal, the Council has provided the Commission with critically important recommendations regarding number administration, such as the development and recommendation of interim and permanent guidelines for pseudo Automatic Number Identification administration. In addition, the Council developed and recommended technical requirements for a request for proposals associated with a new Pooling Administrator (PA) contract. The Council also provided detailed evaluations of the North American Numbering Plan Administrator (NANPA) and the PA. The Council will continue to evaluate the NANPA's and the PA's performances annually.

Moreover, the Council is presently considering and formulating recommendations on other important numbering-related issues that will require work beyond the term of the present charter. The term of the Council's renewed charter begins September 27, 2007 and runs through September 27, 2009.

The value of this federal advisory committee to the telecommunications industry and to the American public cannot be overstated. Numbers are the means by which consumers gain access to, and reap the benefits of, the public switched telephone network. The Council's recommendations to the Commission will facilitate fair and efficient number administration in the United States, and will ensure that numbering resources are available to all telecommunications service providers on a fair and equitable basis, consistent with the requirements of the Telecommunications Act of 1996.

Federal Communications Commission.
Marilyn Jones,
Attorney, Competition Policy Division, Wireline Competition Bureau.

[FR Doc. E7-19939 Filed 10-9-07; 8:45 am]

BILLING CODE 6712-01-P